DEPARTMENT OF TRANSPORTATION

Federal Railroad Administration

[Docket No. FRA-2011-0001-N-5]

Proposed Agency Information Collection Activities; Comment Request

AGENCY: Federal Railroad Administration (FRA), Department of Transportation (DOT).

ACTION: Notice and request for comments.

SUMMARY: In accordance with the Paperwork Reduction Act of 1995 and its implementing regulations, the Federal Railroad Administration (FRA) hereby announces that it is seeking renewal of the following currently approved information collection request (ICR). Before submitting these information collection requirements for clearance by the Office of Management and Budget (OMB), FRA is soliciting public comment on specific aspects of the activities identified below.

DATES: Comments must be received no later than June 20, 2011.

ADDRESSES: Submit written comments on any or all of the following proposed activities by mail to either: Mr. Robert Brogan, Office of Safety, Planning and Evaluation Division, RRS-21, Federal Railroad Administration, 1200 New Jersey Avenue, SE., Mail Stop 25, Washington, DC 20590, or Ms. Kimberly Toone, Office of Information Technology, RAD-20, Federal Railroad Administration, 1200 New Jersey Avenue, SE., Mail Stop 35, Washington, DC 20590. Commenters requesting FRA to acknowledge receipt of their respective comments must include a self-addressed stamped postcard stating, “Comments on OMB control number 2130-0578.” Alternatively, comments may be transmitted via facsimile to (202) 493-6216 or (202) 493-6479, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Avenue, SE., Mail Stop 25, Washington, D.C. 20590 (telephone: (202) 493-6292) or Ms. Kimberly Toone, Office of Information Technology, RAD-20, Federal Railroad Administration, 1200 New Jersey Avenue, SE., Mail Stop 35, Washington, DC 20590 (telephone: (202) 493-6139). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection request (ICR) that FRA will submit for clearance by OMB as required under the PRA.

Title: Implementation for Capital Grants for Rail Line Relocation and Improvement Projects.

OMB Control Number: 2130-0578.

Abstract: Section 9002 of the Safe, Accountable, Flexible, Efficient Transportation Equity Act: A Legacy for Users (SAFETEA-LU) (Pub. L. 109-59, August 10, 2005) amends chapter 201 of Title 49 of the United States Code by adding section 20154. Section 20154 authorizes—but does not appropriate—$350,000,000 per year for each of the fiscal years (FY) 2006 through 2009 for the purpose of funding a grant program to provide financial assistance for local rail line relocation and improvement projects. Section 20154 directs the Secretary of Transportation (Secretary) to issue regulations implementing this grant program, and the Secretary has delegated this responsibility to FRA. On July 11, 2008, FRA published the final rule intended to carry out that statutory mandate.

Congress did not appropriate any funding for the Program for FY 2006 or FY 2007. In FY 2008, Congress appropriated $20,145,000 for the Program, reduced by rescission too $20,040,200, $14,905,000 of which was available for discretionary (competitive) grants. After evaluating and scoring 37 applications, FRA awarded $14,315,300 to seven different projects, leaving $589,700. In FY 2009, Congress appropriate $25,000,000 and directed that $17,100,000 be awarded to 23 specific projects, with $7,900,000 left over discretionary grants. Subsequently, in FY 2010, Congress appropriated $34,532,000 for the Program, and directed that $24,519,200 go to 27 specifically enumerated projects. FRA combined the remaining $10,012,800 with $589,700 that was not awarded from the FY 2008 competition, $2,000,000 that was awarded to one of the FY 2008 projects but which the project sponsors ultimately turned down, and the $7,900,000 in FY 2009 discretionary funding for a total of $20,502,500. These funds were the subject of a Notice of Funding Availability FRA published in the Federal Register on September 10, 2010. The application period closed on October 29, 2010, and FRA is currently evaluating applications submitted. The information collected will be used by FRA to determine whether or not it is appropriate to provide financial assistance to State and local governments looking to undertake either rail relocation or rail improvement projects.

Type of Request: Extension of a currently approved collection.

Affected Public: Businesses.

Respondent Universe: 75 States/Local Governments.

Form Number(s): N/A.

Reporting Burden
CFR Section | Respondent universe | Total annual responses | Average time per response | Total annual burden hours
262.11—Application Process | 75-States/Local Governments | 50-grant application | 580 hours/290 hours | 21,750
—Requests for Meeting with FRA Administrator | 75-States/Local Governments | 10 requests | 30 minutes | 5
—Face-to-face Meetings with Administrator to Discuss Project | 75-States/Local Governments | 10 meeting | 2 hours | 20
262.15—Environmental Assessment | 75-States/Local Governments | 30 environmental documents | 200 hours | 6,000
—Consultations with FRA | 75-States/Local Governments | 9 consults | 2 hours | 18
262.17—State Agreements to Combine Grant Awards | 75-States/Local Governments | 1 agreement | 10 hours | 10
262.19-Close-Out Procedures | 75-States/Local Governments | 30 sets of close-out documents | 6 hours | 180
—Project Reports | 75-States/Local Governments | 30 reports | 80 hours | 5,400

Total Responses: 170.

Estimated Total Annual Burden: 33,383 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on April 14, 2011.
Donna Alwine,
Acting Director, Office of Financial Management, Federal Railroad Administration.

[FR Doc. 2011-9505 Filed 4-19-11; 8:45 am]

BILLING CODE 4910-06-P